NATIONAL AERONAUTICS AND SPACE ADMINISTRATION

[Notice: 06-048]

NASA International Space Station Advisory Committee; Meeting

AGENCY: National Aeronautics and Space Administration (NASA).

ACTION: Notice of meeting.

SUMMARY: The National Aeronautics and Space Administration announces an open meeting of the NASA International Space Station Advisory Committee.

DATES: Thursday, August 24, 2006, 1 p.m.-2 p.m. Eastern Daylight Time.

ADDRESSES: NASA Headquarters, 300 E Street, SW., Room 7U22, Washington, DC 20546.

FOR FURTHER INFORMATION CONTACT: Mr. Todd F. McIntyre, Office of External Relations, (202) 358-4621, National Aeronautics and Space Administration, Washington, DC 20546-0001.

SUPPLEMENTARY INFORMATION: This meeting will be open to the public up to the seating capacity of the room. Five seats will be reserved for members of the press. The agenda for the meeting is as follows:

—To assess the operational readiness of the International Space Station to support a new crew.

—To assess the Russian and American flight teams' preparedness to accomplish the Expedition Fourteen mission.

—To assess the health and flight readiness of the Expedition Fourteen crew.

Attendees will be requested to sign a register and to comply with NASA security requirements, including the presentation of a valid picture ID, before receiving an access badge. Foreign nationals attending this meeting will be required to provide the following information: full name; gender; date/place of birth; citizenship; visa/green card information (number, type, expiration date); passport information (number, country, expiration date); employer/affiliation information (name of institution, address, country, phone); title/position of attendee. To expedite admittance, attendees should provide identifying information in advance by contacting Todd F. McIntyre via e-mail at Todd.McIntyre-1@nasa.gov or by telephone at (202) 358-4621 by August 22, 2006. It is imperative that the meeting be held on this date to accommodate the scheduling priorities of the key participants.

Dated: July 25, 2006.
P. Diane Rausch,
Advisory Committee Management Officer, National Aeronautics and Space Administration.

[FR Doc. E6-12259 Filed 7-31-06; 8:45 am]

BILLING CODE 7510-13-P